DEPARTMENT OF THE TREASURY

Fiscal Service

31 CFR Parts 351, 353, 359, 360, and 363

Offering and Governing Regulations for Series EE and Series I Savings Bonds, TreasuryDirect

AGENCY: Bureau of the Public Debt, Fiscal Service, Treasury.

ACTION: Final rule.

SUMMARY: This rule lowers the annual purchase limitation per person for Series EE and Series I savings bonds, and eliminates the definitive $10,000 denomination for Series I savings bonds.

DATES: Effective: January 1, 2008.

ADDRESSES: You can download this final rule at the following Internet addresses: http://www.publicdebt.treas.gov or http://www.gpoaccess.gov/ecfr.

FOR FURTHER INFORMATION CONTACT: Elisha Whipkey, Director, Division of Program Administration, Office of Securities Operations, Bureau of the Public Debt, at (304) 480-6319 or elisha.whipkey@bpd.treas.gov.

Susan Sharp, Attorney-Adviser, Dean Adams, Assistant Chief Counsel, Edward Gronseth, Deputy Chief Counsel, Office of the Chief Counsel, Bureau of the Public Debt, at (304) 480-8692 or susan.sharp@bpd.treas.gov.

SUPPLEMENTARY INFORMATION: This rule lowers the annual purchase limitation for Series EE and Series I savings bonds. Prior to this rule, an investor could purchase $30,000 each of definitive and book-entry Series EE savings bonds and $30,000 each of definitive and book-entry Series I savings bonds per person, per calendar year. This rule will permit an investor to purchase a principal amount of $5,000 each of definitive and book-entry Series EE savings bonds and $5,000 each of definitive and book-entry Series I savings bonds per person, per calendar year. As a result of the change in the annual purchase limitation, we are withdrawing the $10,000 Series I definitive savings bond denomination on original issue.

The change will permit Treasury to continue to offer savings options for investors with limited means and market opportunities, while encouraging those with greater financial resources to participate in marketable Treasury securities auctions, which are a more efficient means for Treasury to issue debt. Both savings bonds and marketable securities are offered to individuals through TreasuryDirect, which is an internet-accessed, book-entry system for purchasing, holding, and conducting transactions in Treasury securities. Reducing the cap on yearly purchases will not affect the vast majority of current savings bond purchasers, approximately 98 percent of whom buy less than $5,000, our new cap, annually.

Procedural Requirements

This final rule does not meet the criteria for a “significant regulatory action” as defined in Executive Order 12866. Therefore, a regulatory assessment is not required.

Because this final rule relates to matters of public contract and procedures for United States securities, notice and public procedure and delayed effective date requirements are inapplicable, pursuant to 5 U.S.C. 553(a)(2).

As no notice of proposed rulemaking is required, the Regulatory Flexibility Act (5 U.S.C. 601 et seq.) does not apply.

We ask for no new collections of information in this final rule. Therefore, the Paperwork Reduction Act (44 U.S.C. 3507) does not apply.

List of Subjects

31 CFR Part 351

Bonds, Federal Reserve system, Government securities.

31 CFR Part 353

Banks and banking, Government securities, Federal Reserve system.

31 CFR Part 359

Bonds, Federal Reserve system, Government securities, Securities.

31 CFR Part 360

Bonds, Federal Reserve system, Government securities, Securities.

31 CFR Part 363

Bonds, Electronic funds transfer, Federal Reserve system, Government securities, Securities.

Accordingly, for the reasons set out in the preamble, 31 CFR Chapter II, Subchapter B, is amended as follows:

PART 351—OFFERING OF UNITED STATES SAVINGS BONDS, SERIES EE

1. The authority citation for Part 351 continues to read as follows:

Authority: 5 U.S.C. 301; 12 U.S.C. 391; 31 U.S.C. 3105.

2. Amend § 351.44 by revising the first sentence to read as follows:

§ 351.44 What amount of definitive Series EE savings bonds may I purchase per year?

The principal amount of definitive Series EE savings bonds that may be purchased in the name and TIN of any person in any calendar year is limited to $5,000.

* * * * *

3. Revise § 351.65 to read as follows:

§ 351.65 What amount of book-entry Series EE savings bonds may I acquire per year?

The principal amount of book-entry Series EE savings bonds that you may acquire in your name and TIN per calendar year is limited to $5,000.

PART 353—REGULATIONS GOVERNING DEFINITIVE UNITED STATES SAVINGS BONDS, SERIES EE AND HH

4. The authority citation for Part 353 continues to read as follows:

Authority: 5 U.S.C. 301; 12 U.S.C. 391; 31 U.S.C. 3105, 3125.

5. Revise the heading for Part 353 to read as set forth above.

6. Amend § 353.10 by revising paragraph (a)(1) to read as follows:

§ 353.10 Amounts which may be purchased.

* * * * *

(a) Series EE—(1) General annual limitation. $5,000 (principal amount).

* * * * *

PART 359—OFFERING OF UNITED STATES SAVINGS BONDS, SERIES I

7. The authority citation for part 359 continues to read as follows:

Authority: 5 U.S.C. 301; 12 U.S.C. 391; 31 U.S.C. 3105.

8. Revise the first sentence of § 359.25 to read as follows:

§ 359.25 What are the denominations and prices of definitive Series I savings bonds?

Definitive Series I saving bonds are issued in denominations of $50, $75, $100, $200, $500, $1,000, and $5,000. * * *

9. Revise § 359.29 to read as follows:

§ 359.29 What amount of definitive Series I savings bonds may I purchase per year?

The principal amount of definitive Series I savings bonds that may be purchased in the name and TIN of any person in any calendar year is limited to $5,000.

10. Revise § 359.50 to read as follows:

§ 359.50 What amount of book-entry Series I savings bonds may I acquire per year?

The principal amount of book-entry Series I savings bonds that you may acquire in your name and TIN in any calendar year is limited to $5,000.

PART 360—REGULATIONS GOVERNING DEFINITIVE UNITED STATES SAVINGS BONDS, SERIES I

11. The authority citation for Part 360 continues to read as follows:

Authority: 5 U.S.C. 301; 31 U.S.C. 3105 and 3125.

12. Amend § 360.10 by revising paragraph (a) to read as follows:

§ 360.10 Amounts which may be purchased.

* * * * *

(a) General annual limitation, $5,000 (par value).

* * * * *

PART 363—REGULATIONS GOVERNING SECURITIES HELD IN TREASURYDIRECT

13. The authority citation for part 363 continues to read as follows:

Authority: 5 U.S.C. 301; 12 U.S.C. 391; 31 U.S.C. 3102, et seq.; 31 U.S.C. 3121, et seq.

14. Amend § 363.52 by revising the heading and paragraph (a) to read as follows:

§ 363.52 What amount of book-entry Series EE and Series I savings bonds may I purchase in one year?

(a) Purchase limitation. The amount of book-entry savings bonds that you may purchase in any calendar year is limited to $5,000 for Series EE savings bonds and $5,000 for Series I savings bonds.

* * * * *

Dated: August 16, 2007.
Kenneth E. Carfine,
Fiscal Assistant Secretary.

[FR Doc. 07-5888 Filed 11-30-07; 8:45 am]

BILLING CODE 4810-39-M